DEPARTMENT OF ENERGY

Federal Energy Regulatory Commission

Combined Notice of Filings

Take notice that the Commission has received the following Natural Gas Pipeline Rate and Refund Report filings:

Filings Instituting Proceedings

Docket Numbers: PR26-10-000.

Applicants: Columbia Gas of Kentucky, Inc.

Description: 284.123 Rate Filing: Revise Statement of Operating Conditions 11-2025 to be effective 8/28/2025.

Filed Date: 11/19/25.

Accession Number: 20251119-5033.

Comment Date: 5 p.m. ET 12/10/25.

Docket Numbers: PR26-11-000.

Applicants: Bay Gas Storage Company, LLC.

Description: 284.123 Rate Filing: Bay Gas Informational Re Docket No. PR94-1 to be effective N/A.

Filed Date: 11/19/25.

Accession Number: 20251119-5085.

Comment Date: 5 p.m. ET 12/10/25.

Docket Numbers: PR26-12-000.

Applicants: Bay Gas Storage Company, LLC.

Description: 284.123 Rate Filing: Bay Gas Informational Re Docket No. PR08-7 to be effective N/A.

Filed Date: 11/19/25.

Accession Number: 20251119-5088.

Comment Date: 5 p.m. ET 12/10/25.

Docket Numbers: RP26-198-000.

Applicants: UGI Sunbury, LLC.

Description: Annual Report of Operational Purchases and Sales of UGI Sunbury, LLC.

Filed Date: 11/18/25.

Accession Number: 20251118-5191.

Comment Date: 5 p.m. ET 12/1/25.

Docket Numbers: RP26-199-000.

Applicants: UGI Mt. Bethel Pipeline Company, LLC.

Description: Annual Report of Operational Purchases and Sales of UGI Mt. Bethel Pipeline, LLC.

Filed Date: 11/18/25.

Accession Number: 20251118-5200.

Comment Date: 5 p.m. ET 12/1/25.

Docket Numbers: RP26-200-000.

Applicants: Caledonia Energy Partners, L.L.C.

Description: Compliance filing: Caledonia Energy Informational Filing Re CP05-17 to be effective N/A.

Filed Date: 11/19/25.

Accession Number: 20251119-5101.

Comment Date: 5 p.m. ET 12/1/25.

Docket Numbers: RP26-201-000.

Applicants: Caledonia Energy Partners, L.L.C.

Description: Compliance filing: Caledonia Energy Informational Filing Re CP12-33 to be effective N/A.

Filed Date: 11/19/25.

Accession Number: 20251119-5104.

Comment Date: 5 p.m. ET 12/1/25.

Docket Numbers: RP26-202-000.

Applicants: Caledonia Energy Partners, L.L.C.

Description: Compliance filing: Caledonia Energy Informational Filing Re CP05-15 to be effective N/A.

Filed Date: 11/19/25.

Accession Number: 20251119-5105.

Comment Date: 5 p.m. ET 12/1/25.

Docket Numbers: RP26-203-000.

Applicants: Caledonia Energy Partners, L.L.C.

Description: Compliance filing: Caledonia Energy Informational Filing Re CP05-16 to be effective N/A.

Filed Date: 11/19/25.

Accession Number: 20251119-5106.

Comment Date: 5 p.m. ET 12/1/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-333-004.

Applicants: Tennessee Gas Pipeline Company, L.L.C.

Description: Compliance filing: TGP Compliance Filing to Implement the Period 3 Settlement Rates to be effective 1/1/2026.

Filed Date: 11/18/25.

Accession Number: 20251118-5130.

Comment Date: 5 p.m. ET 12/1/25.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: November 19, 2025.
Carlos D. Clay,
Deputy Secretary.

[FR Doc. 2025-20730 Filed 11-21-25; 8:45 am]

BILLING CODE 6717-01-P